ENVIRONMENTAL PROTECTION AGENCY

[FRL-7078-1]

Notice of Availability of Final Document Entitled, Risk Burn Guidance for Hazardous Waste Combustion Facilities

AGENCY: Environmental Protection Agency.

ACTION: Notice.

SUMMARY: The Environmental Protection Agency (EPA) is providing notice that the following guidance document: Risk Burn Guidance for Hazardous Waste Combustion Facilities, EPA530-R-01-001, July 2001 is now available for use. This EPA combustion-related guidance document will serve to update and replace the existing draft guidance document entitled: Guidance on Collection of Emissions Data to Support Site-Specific Risk Assessments at Hazardous Waste Combustion Facilities, Peer Review Draft, EPA530-D-98-002, August 1998.

ADDRESSEES: Supporting materials are available for viewing in the RCRA Information Center (RIC), located in Crystal Gatewya I, 1235 Jefferson Davis Highway, First Floor, Arlington, Virginia. The Docket Identification Numbers is F-2001-RBGN-FFFFF. The RIC is open from 9 am to 4 pm, Monday through Friday, excluding Federal holidays. The public may review docket materials by calling 703-603-9230 to make an appointment. The public may copy a maximum of 100 pages from any regulatory docket at no charge. Additional copies cost $0.15 per page.

FOR FURTHER INFORMATION CONTACT: For further information contact the RCRA Call Center at (800) 424-9346 or TDD (800) 553-7672 (hearing impaired). In the Washington, DC metropolitan area, call (703) 412-9810 or TDD (703) 412-3323. For specific questions on implementation of the document, please contact your RCRA regulating authority.

SUPPLEMENTARY INFORMATION: For a paper copy of the guidance document, Risk Burn Guidance for Hazardous Waste Combustion Facilities, please contact the RCRA Information Center (RIC), Office of Solid Waste (5305G), U.S. Environmental Protection Agency Headquarters (EPA, HQ), 1200 Pennsylvania Avenue, NW., Washington, DC 20460, (703) 603-9230. The document number is EPA530-R-01-001. Copies may also be obtained from the RCRA Call Center at (800) 424-9346 or TDD (800) 553-7672 (hearing impaired). In the Washington, DC metropolitan area, call (703) 412-9810 or TDD (703) 412-3323.

The document is available in electronic format on the world wide web. It can be found at www.epa.gov/epaoswer/hazwaste/combust.htm.

Dated: August 31, 2001.
Matthew Hale,
Acting Director, Office of Solid Waste.

[FR Doc. 01-25591 Filed 10-10-01; 8:45 am]

BILLING CODE 6560-50-P